DEPARTMENT OF TRANSPORTATION

Surface Transportation Board

[Docket No. FD 35423]

Freightcar Short Line, Inc.—Acquisition and Operation Exemption—Line of Cornhusker Railways, LLC

FreightCar Short Line, Inc. (FCSL), a noncarrier, has filed a verified notice of exemption under 49 CFR 1150.31 to acquire and operate approximately 5.00 miles of rail line (Line) owned by Cornhusker Railways, LLC (CHR).¹ The Line is located just west of Grand Island, Neb., extending between a connection with BNSF Railway Company (BNSF) at West Airport Road near BNSF milepost 103.55 in Ovina, Neb., and a connection with Union Pacific Railroad Company (UP) at County Road 27 near UP milepost 154.50 in Alda, Neb.²

¹ FreightCar Rail Services, LLC (FCRS), an affiliate of FCSL, has executed an Asset Purchase Agreement with CHR and CHR's parent for acquisition of the Line but is assigning its right to acquire and operate the Line to FCSL.

² Prior to 2005, the Line was private track associated with a U.S. Army ordinance plant. In 2004, the Line was acquired by DTE Rail Services, Inc. (DTERS), for use in the construction and operation of a railcar repair facility being developed on the site. In 2005, DTERS transferred the Line to its affiliate, CHR, to provide common carrier service for other potential shippers who might locate on the former Army site. See Cornhusker Rys., LLC—Acq. and Oper. Exemp.—Rail Line of DTE Rail Services, Inc., FD 34719 (STB served July 20, 2005).

FCSL certifies that its projected revenues as a result of the transaction will not exceed those that would qualify it as a Class III rail carrier and will not exceed $5 million.

The transaction is scheduled to be consummated on or after October 14, 2010, the effective date of the exemption (30 days after the exemption was filed).

If the verified notice contains false or misleading information, the exemption is void ab initio. Petitions to revoke the exemption under 49 U.S.C. 10502(d) may be filed at any time. The filing of a petition to revoke will not automatically stay the transaction.

An original and 10 copies of all pleadings, referring to Docket No. FD 35423, must be filed with the Surface Transportation Board, 395 E Street, SW., Washington, DC 20423-0001. In addition, a copy of each pleading must be served on Thomas J. Litwiler, 29 North Wacker Drive, Suite 920, Chicago, Ill. 60606.

Board decisions and notices are available on our Web site at http://www.stb.dot.gov.

Decided: September 27, 2010.
By the Board.
Rachel D. Campbell,
Director, Office of Proceedings.
Jeffrey Herzig,
Clearance Clerk.

[FR Doc. 2010-24583 Filed 9-29-10; 8:45 am]

BILLING CODE 4915-01-P